COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products and services from the Procurement List previously furnished by such agencies.

DATES: Date added to and deleted from the Procurement List: June 07, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 3/27/2020 and 4/3/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSNs—Product Names:

MR 13020—Scoop, Cookie, Medium

MR 13022—Corer, Cupcake

MR 13024—Cookie Press, Disc Storage, 12 Discs

MR 13025—Set, Disc, Christmas

MR 13056—Kit, Bottle, Bakers, 8pc

MR 13057—Knife, Icing, Cupcake

MR 13058—cups, Baking, Silicone

MR 13059—Spatula, Baking, cookie, Silicone

MR 13049—Set, Disc, Springtime

Mandatory Source of Supply: Cincinnati Association for the Blind, Cincinnati, OH

Contracting Activity: Military Resale-Defense Commissary Agency

Service

Service Type: Grounds Maintenance

Mandatory for: U.S. Army Engineer District San Francisco, Bay Model Visitor Center, Sausalito, CA

Mandatory Source of Supply: North Bay Rehabilitation Services, Inc., Rohnert Park, CA

Contracting Activity: DEPT OF THE ARMY, W075 ENDIST SAN FRAN

Deletions

On 4/3/2020, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSNs—Product Names:

8415-00-FAB-0702—Kit, Pre-Cut Fabric, GEN III ECWCS, Jacket, OEFCP, XSmall-Short

8415-00-FAB-0706—Kit, Pre-Cut Fabric, GEN III ECWCS, Jacket, OEFCP, XSmall-Regular

8415-00-FAB-0713—Kit, Pre-Cut Fabric, GEN III ECWCS, Jacket, OEFCP, Small-Short

8415-00-FAB-0724—Kit, Pre-Cut Fabric, GEN III ECWCS, Jacket, OEFCP, Small-Regular

8415-00-FAB-0728—Kit, Pre-Cut Fabric, GEN III ECWCS, Jacket, OEFCP, Small-Long

8415-00-FAB-0730—Kit, Pre-Cut Fabric, GEN III ECWCS, Jacket, OEFCP, Med-Regular

8415-00-FAB-0733—Kit, Pre-Cut Fabric, GEN III ECWCS, Jacket, OEFCP, Med-Long

8415-00-FAB-0744—Kit, Pre-Cut Fabric, GEN III ECWCS, Jacket, OEFCP, Large-Regular

8415-00-FAB-0751—Kit, Pre-Cut Fabric, GEN III ECWCS, Jacket, OEFCP, Large-Long

8415-00-FAB-0754—Kit, Pre-Cut Fabric, GEN III ECWCS, Jacket, OEFCP, XLarge-Regular

8415-00-FAB-0759—Kit, Pre-Cut Fabric, GEN III ECWCS, Jacket, OEFCP, XLarge-Long

8415-00-FAB-0760—Kit, Pre-Cut Fabric, GEN III ECWCS, Jacket, OEFCP, XLarge-Xlong

8415-00-FAB-0925—Kit, Pre-Cut Fabric, GEN III ECWCS, Jacket, OEFCP, XXLarge-Regular

8415-00-FAB-0936—Kit, Pre-Cut Fabric, GEN III ECWCS, Jacket, OEFCP, XXLarge-Long

8415-00-FAB-0941—Kit, Pre-Cut Fabric, GEN III ECWCS, Jacket, OEFCP, XXLarge-Xlong

8415-00-FAB-6057—Kit, Pre-Cut Fabric, GEN III ECWCS, Jacket, UCP, Small-Regular

8415-00-FAB-6067—Kit, Pre-Cut Fabric, GEN III ECWCS, Jacket, UCP, Med-Regular

8415-00-FAB-6074—Kit, Pre-Cut Fabric, GEN III ECWCS, Jacket, UCP, Large-Regular

8415-00-FAB-6080—Kit, Pre-Cut Fabric, GEN III ECWCS, Jacket, UCP, XLarge-Regular

8415-00-FAB-6082—Kit, Pre-Cut Fabric, GEN III ECWCS, Jacket, UCP, Large-Long

8415-00-FAB-6089—Kit, Pre-Cut Fabric, GEN III ECWCS, Jacket, UCP, XLarge-Long

8415-00-FAB-8745—Kit, Pre-Cut Fabric, GEN III ECWCS, Jacket, UCP, Small-Short

8415-00-FAB-8758—Kit, Pre-Cut Fabric, GEN III ECWCS, Jacket, UCP, Small-Long

8415-00-FAB-8809—Kit, Pre-Cut Fabric, GEN III ECWCS, Jacket, UCP, Med-Long

8415-00-FAB-8820—Kit, Pre-Cut Fabric, GEN III ECWCS, Jacket, UCP, XLarge-XLong

8415-00-FAB-8828—Kit, Pre-Cut Fabric, GEN III ECWCS, Jacket, UCP, 2XLarge-Regular

8415-00-FAB-8829—Kit, Pre-Cut Fabric, GEN III ECWCS, Jacket, UCP, 2XLarge-Long

8415-00-FAB-8834—Kit, Pre-Cut Fabric, GEN III ECWCS, Jacket, UCP, 2XLarge-XLong

Mandatory Source of Supply: Blind Industries & Services of Maryland, Baltimore, MD

Contracting Activity: DEPT OF JUST/FEDERAL PRISON SYSTEM, Washington, DC

NSNs—Product Names:

8415-00-FAB-6409—Kit, Pre-Cut Fabric, GEN III ECWCS, Trouser, UCamo, XL-XL

8415-00-FAB-6410—Kit, Pre-Cut Fabric, GEN III ECWCS, Trouser, UCamo, XS-XS

Mandatory Source of Supply: Winston-Salem Industries for the Blind, Inc., Winston-Salem, NC

Contracting Activity: DEPT OF JUST/FEDERAL PRISON SYSTEM, Washington, DC

Services

Service Type: Janitorial/Custodial

Mandatory for: U.S. Army Reserve Center: 124 Manley Street, Brockton, MA

Mandatory Source of Supply: Morgan Memorial Goodwill Industries, Boston, MA

Contracting Activity: DEPT OF THE ARMY, W6QK ACC-PICA

Service Type: Janitorial/Custodial

Mandatory for: U.S. Army Reserve Center: 443 Route 119 North, Indiana, PA

Contracting Activity: DEPT OF THE ARMY, W6QM MICC CTR-FT DIX (RC)

Service Type: Janitorial/Minor Maintenance

Mandatory for: U.S. Federal Building and Post Office, Tupelo, MS

Mandatory Source of Supply: Alabama Goodwill Industries, Inc., Birmingham, AL

Contracting Activity: PUBLIC BUILDINGS SERVICE, ACQUISITION DIVISION/SERVICES BRANCH

Michael R. Jurkowski,
Deputy Director, Business & PL Operations.

[FR Doc. 2020-09897 Filed 5-7-20; 8:45 am]

BILLING CODE 6353-01-P